NUCLEAR REGULATORY COMMISSION

10 CFR Parts 20, 30, 32, 33, 34, 35, 36, 37, 39, 51, 71, and 73

[NRC-2008-0120; NRC-2010-0194]

RIN 3150-AI12

Physical Protection of Byproduct Material

Correction

In rule document 2013-5895 appearing on pages 16922-17022 in the issue of March 19, 2013, make the following correction:

§ 37.77 [Corrected]

On page 17017, in § 37.77, in the third column, in the first full paragraph, in the 25th line through 26th, “RAMQC&_SHIPMENTS&commat;nrc.gov” should read “RAMQC_SHIPMENTS@nrc.gov”.

[FR Doc. C1-2013-05895 Filed 5-24-13; 8:45 am]

BILLING CODE 1505-01-D